DEPARTMENT OF HEALTH AND HUMAN SERVICES

Meeting of the Advisory Committee on Minority Health

AGENCY: Department of Health and Human Services, Office of the Secretary.

ACTION: Notice.

SUMMARY: As stipulated by the Federal Advisory Committee Act, the Department of Health and Human Services (DHHS) is hereby giving notice that the Advisory Committee on Minority Health (ACMH) will hold a meeting. This meeting is open to the public.

DATES: The meeting will be held on April 25, 2005 from 1 p.m. to 5 p.m. and on April 26, 2005 from 9 a.m. to 5 p.m.

ADDRESSES: The meeting will be held at the Marriott Bethesda North Hotel and Conference Center, 5701 Marinelli Road, North Bethesda, Maryland 20852. This location is metro accessible to the White Flint Station.

FOR FURTHER INFORMATION CONTACT: Ms. Monica A. Farrar, Tower Building, 1001 Wootton Parkway, Rockville, Maryland 20852. Phone: 301-443-5084. Fax: 301-594-0767.

SUPPLEMENTARY INFORMATION: In accordance with Pub. L. 105-392, the Advisory Committee on Minority Health was established to provide advice to the Secretary DHHS, through the Deputy Assistant Secretary for Minority Health, on issues related to the health of racial and ethnic minority populations.

Topics to be discussed during this meeting will include programs and activities related to the Office of Minority Health and presentations on the status of racial and ethnic health disparities as well as other related issues. A tentative agenda will be made available one week prior to meeting for review at http://www.omhrc.gov/acmh.

Public attendance at the meeting is limited to space available. Individuals who plan to attend and need special assistance, such as sign language interpretation or other reasonable accommodations, should notify the designated contact person. Members of the public will have the opportunity to provide comments at the meeting. Public comments will be limited to five minutes per speaker. Individuals who would like to submit written statements should mail or fax their comments to the Office of Minority Health at least two business days prior to the meeting. Any members of the public who wish to have printed material distributed to ACMH committee members should submit their materials to the Executive Secretary, ACMH, prior to close of business April 19, 2005. Preregistration is required for both public attendance and comment. Any individual who wishes to attend the meeting and/or participate in the public comment session should e-mail acmh@osophs.dhhs.gov.

Dated: April 5, 2005.
Garth N. Graham,
Deputy Assistant Secretary for Minority Health, Executive Secretary, ACMH.

[FR Doc. 05-7206 Filed 4-8-05; 8:45 am]

BILLING CODE 4150-29-P